DEPARTMENT OF AGRICULTURE

Forest Service

Kootenai National Forest; Lincoln County; Montana; Lower Yaak, O'Brien, Sheep Project EIS

AGENCY: Forest Service, USDA.

ACTION: Notice of intent to prepare an environmental impact statement.

SUMMARY: The Forest Service will prepare an Environmental Impact Statement (EIS) to disclose the environmental effects of commercial and non-commercial vegetation management activities, prescribed burning, watershed and recreation improvement activities, and granting road access to private timber lands. Access management changes and other design features are included to protect resources and facilitate management activities. The project is located in the Lower Yaak, O'Brien, and Sheep planning subunits on the Three Rivers Ranger District, Kootenai National Forest, Lincoln County, Montana, near Troy, Montana.

DATES: Comments concerning the scope of the analysis must be received by November 5, 2014. The draft environmental impact statement is expected June 2015 and the final environmental impact statement is expected August 2015.

ADDRESSES: Send written comments to Kirsten Kaiser, District Ranger, Three Rivers Ranger District, 12858 US Highway 2, Troy, MT 59935. Comments may also be sent via email to comments-northern-kootenai-three-rivers@fs.fed.us, or via facsimile to 406-295-7410.

FOR FURTHER INFORMATION CONTACT: Leslie McDougall, Project Team Leader, Three Rivers Ranger District, 12858 US Highway 2, Troy, MT 59935. Phone: (406) 295-4693. Individuals who use telecommunication devices for the deaf (TDD) may call the Federal Information Relay Service (FIRS) at 1-800-877-8339 between 8 a.m. and 8 p.m., Eastern Time, Monday through Friday.

SUPPLEMENTARY INFORMATION: The Lower Yaak, O'Brien, Sheep project area is approximately 67,500 acres in size and is located adjacent to and east of Troy, Montana along the Kootenai River. O'Brien, Lynx, Rabbit, Hummingbird, Kilbrennan, and Arbo Creeks are the main watersheds in the project area. The legal description includes Townships 31, 32, 33, and 34 North, Ranges 32, 33, and 34 West, PMM, Lincoln County, Montana.

Purpose and Need for Action

The purpose and need for this project is to: (1) Promote resilient vegetation by managing towards Forest Plan desired conditions for landscape-level vegetation patterns, structure, patch size, fuel loading, and species composition; (2) maintain or improve water quality and native aquatic species habitat; (3) provide forage opportunities while maintaining wildlife security; (4) provide wood products that are in demand by the American public, contribute to the local economy by generating jobs and income, and provide a safe and efficient transportation system; and (5) treat hazardous fuels to reduce crown fire potential and stand replacing wildfire within the wildland urban interface (WUI) and other areas while promoting fire behavior characteristics and fuel conditions that allow for safe and effective fire management.

Proposed Action

The proposed action includes timber harvest and associated fuels treatments, prescribed burning, and watershed work to address the purpose and need. The proposed action includes:

(1) Approximately 2,202 acres of regeneration harvest and 1,149 acres of intermediate harvest are being proposed. These treatments would be accomplished through 2,500 acres of tractor harvest and 851 acres of skyline yarding. There are 40 units proposed that would create or contribute to 24 different openings larger than 40 acres. This action requires a 60-day public review and Regional Forester approval (FSM 2471.1). This document serves as the beginning of the 60-day comment period. The largest of these treatment units would be approximately 190 acres in size. Approximately 769 acres of the total 2,080 proposed prescribed burning and fuel reduction treatments are within the WUI, while 2,894 of the total 3,351 acre proposed timber harvest treatment is within the WUI. Total WUI treatment is approximately 3,663 acres.

(2) In an effort to return fire to the landscape and to promote wildlife foraging opportunities approximately 1,508 acres of prescribed burning (1,482 acres of broadcast burning and 26 acres of maintenance underburning) is being proposed. Approximately 727 acres in the WUI are proposed for burning. Approximately 660 acres acres of this burning will occur in the Inventoried Roadless Areas.

(3) It is estimated that two temporary roads, totaling approximately 0.4 mile would be constructed to accomplish the timber harvest and associated fuel reduction work. These roads would be decommissioned following activities. Two segments of road would be rerouted for resource protection (approximately 0.5 mile on near Kilbrennan Lake and 0.3 mile near the Troy shooting range).

(4) Implementation of best management practice (BMP) work and road maintenance work would be implemented on Forest Service haul roads. Approximately 45 miles of National Forest System road (NFSR) would be reconstructed to meet State BMPs for water quality.

(5) Implementation of BMPs on roads not used for haul routes, including NFSR 4429 O'Brien Lynx Creek road, and NFSR 4445 Lynx Creek. This road work would be completed separately from the timber sale and would be dependent on other sources of funding.

(6) Approximately 10.7 miles of active road storage, 6.3 miles of passive road storage, 1.3 miles of active decommissioning, and 7.0 miles of passive decommissioning would be done on roads not currently open for public motorized travel. Roads identified in the Travel Analysis as needed for long-term management of NFS lands would be put into intermittent stored service (storage). Roads identified as not needed for future management would be decommissioned. Both storage and decommissioning could have a range of treatments including simple barrier installation (passive treatment) where watershed impacts are not likely, to active treatments ranging from removing culverts to full recontouring where risks to watersheds are high. Non-motorized access would be facilitated with improved tread on road segments identified by the public as important for use.

In addition, five sites are proposed for road stream crossing restoration where abandoned road stream crossing structures are failing and delivering sediment to the streams. Streams where work is proposed include North Fork O'Brien, Rabbit Creek, and Prospect Creek.

(7) An estimated 650 acres of grizzly bear Core habitat would be impacted by proposed harvest and/or road use activities occurring within or adjacent to existing Core. To compensate for this potential loss of Core acres, roads open or restricted (gated) to motorized use elsewhere within the bear management unit (BMU) would be effectively barriered to motorized traffic occuring during the active bear year. This compensation work would occur prior to or concurrently with the proposed harvest or road use to be in compliance with design features of the Access Amendment. Similarly, to offset potential increases in open motorized route densities incurred during roadwork and harvest activities in the BMU, a road(s) currently open to motorized use would be temporarily gated during the implementation period of these activities.

(8) Construction of approximately 0.14 mile of new road on NFS lands on Yaak Mountain to allow access to Stimson Lumber Company lands for land management purposes. This new road construction would access Stimson land in T32N R34W, Section 3.

(9) Recreation improvement projects.

Possible Alternatives

The Forest Service will consider a range of alternatives. One of these will be the “no action” alternative in which none of the proposed action would be implemented. Additional alternatives may be included in response to issues raised by the public during the scoping process or due to additional concerns for resource values identified by the interdisciplinary team.

Responsible Official

The Forest Supervisor of the Kootenai National Forest, 31374 US Highway 2, Libby, MT 59923-3022, is the Responsible Official. As the Responsible Official, I will decide if the proposed action will be implemented. I will document the decision and rationale for the decision in the Record of Decision. I have delegated the responsibility for preparing the draft environmental impact statement (DEIS) and final environmental impact statement (FEIS) to the District Ranger, Three Rivers Ranger District.

Nature of Decision To Be Made

Based on the purpose and need, the Responsible Official reviews the proposed action, the other alternatives, the environmental consequences, and public comments on the analysis in order to make the following decisions:

(1) Whether to implement timber harvest and associated fuel reduction treatments, prescribed burning, watershed work, recreation improvements, and private property access, including the design features and potential mitigation measures to protect resources; and if so, how much, and at what specific locations.

(2) What, if any, specific project monitoring requirements are needed to assure design features and potential mitigation measures are implemented and effective, and to evaluate the success of the project objectives. Preliminary project monitoring needs identified include effectiveness of BMP work, and retention of coarse woody debris. A project-specific monitorng plan will be developed.

Preliminary Issues

Initial analysis by the interdisciplinary team has brought forward several issues that may affect the design of the project.

(1) There are 40 harvest units that would contribute to 24 openings larger than 40 acres. This action requires a 60-day public review and Regional Forester approval (FSM 2471.1). This document serves as the beginning of the 60-day public review period.

(2) Because four of the proposed units would combine to create three openings larger than 40 acres in MA 12 (big game summer range), a site-specific Forest Plan amendment for MA 12 may be required for Wildlife Standard 7, Forest Plan page III-49, which states that generally harvest unit size should not exceed 40 acres in elk and mule deer habitat or 20 acres in moose and whitetail deer habitat. An amendment to allow timber harvest in MA 2 (semi-primitive non-motorized recreation/unsuitable) Timber Standards 1, which states that this MA is unsuitable for timber production, and 2, which states the timber harvest will not occur, may be necessary. An amendment to allow timber harvest MA 13 (old growth/unsuitable) for Timber Standard 1, which states that this MA is not suitable for timber production, and Timber Standard 3 which states that timber harvest will not occur, may also be required.

Scoping Process

This notice of intent initiates the scoping process, which guides the development of the environmental impact statement. The interdisciplinary team will continue to seek information, comments, and assistance from Federal, State, and local agencies, tribal governments, and other individuals or organizations that may be interested in, or affected by, the proposed action. There are several collaborative groups in the area that the interdisciplinary team will interact with during the analysis.

It is important that reviewers provide their comments at such times and in such manner that they are useful to the agency's preparation of the environmental impact statement. Therefore, comments should be provided prior to the close of the comment period and should clearly articulate the reviewer's concerns and contentions. A more detailed scoping letter is available on request as well as on the Kootenai National Forest projects page located here: http://www.fs.usda.gov/projects/kootenai/landmanagement/projects.

Comments received in response to this solicitation, including names and addresses of those who comment, will become part of the public record for this proposed action. Comments submitted anonymously will be accepted and considered, however they will not grant standing to the commenter during the objection period.

Dated: September 15, 2014.
Christopher S. Savage,
Forest Supervisor.

[FR Doc. 2014-22817 Filed 10-3-14; 8:45 am]

BILLING CODE P